FEDERAL COMMUNICATIONS COMMISSION

47 CFR Part 36

[CC Docket No. 80-286, FCC 25J-1; FR ID 281678]

Part 36 Separations Rules in Response to Commission Referrals; Request for Comments

AGENCY: Federal Communications Commission.

ACTION: Request for comments.

SUMMARY: In this document, the Federal Communications Commission (Commission), on behalf of the Federal-State Joint Board on Jurisdictional Separations (Joint Board), seeks comment on issues and questions that the Commission referred to the Joint Board for consideration in the 2024 Separations Freeze Extension and Referral Order to determine the future course of the Part 36 separations rules.

DATES: Comments are due on or before April 23, 2025; reply comments are due on or before May 8, 2025.

ADDRESSES: Pursuant to §§ 1.415 and 1.419 of the Commission's rules, 47 CFR 1.415, 1.419, interested parties may file comments and reply comments on or before the dates indicated above. Comments may be filed using the Commission's Electronic Comment Filing System (ECFS). You may submit comments, identified by CC Docket No. 80-286, FCC 25J-1, by either of the following methods:

• Electronic Filers: Comments may be filed electronically using the internet by accessing the ECFS: https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8 a.m. and 4 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• Additional Requirement to Send Comments and Reply Comments. Parties must email one copy of any comments and reply comments to the persons named on the Federal-State Joint Board on Jurisdictional Separations Service List: https://www.fcc.gov/general/jurisdictional-separations.

• People with Disabilities: To request materials in accessible formats for people with disabilities (braille, large print, electronic files, audio format), send an email to fcc504@fcc.gov or call the Consumer & Governmental Affairs Bureau at 202-418-0530.

FOR FURTHER INFORMATION CONTACT: Marv Sacks, Pricing Policy Division of the Wireline Communications Bureau, at (202) 418-2017 or via email at marvin.sacks@fcc.gov.

SUPPLEMENTARY INFORMATION: This is a summary of the Public Notice released on February 14, 2025, in CC Docket No. 80-286, FCC 25J-1. The full text of this document is available at the following internet address: https://www.fcc.gov/document/separations-joint-board-seeks-comment-fcc-referrals.

On November 13, 2024, the Commission adopted the 2024 Separations Freeze Extension and Referral Order that extends, for up to an additional six years to December 31, 2030, the freeze of the separations rules for rate-of-return incumbent local exchange carriers. To fully address the future of these rules, last revised more than 35 years ago in a vastly different telecommunications marketplace, the Commission also referred to the Joint Board additional issues for its consideration.

First, the Commission reiterated a prior referral asking the Joint Board “whether separations rules are still needed during the transition from a regulated to a competitive marketplace” and whether the Commission should still pursue comprehensive reform or allow the separations rules to become increasingly obsolete over time. More specifically, the Commission asked the Joint Board for a recommended decision on “whether comprehensive reform is still in the public interest when the industry is naturally transitioning away from legacy technologies and cost-based ratemaking and the burdens of compliance with any new set of rules, were they to be reformed, would be significant for the limited number of small carriers still subject to the separations rules.”

Second, the Commission asked the Joint Board for a recommended decision on whether it would be in the public interest to adopt a permanent freeze of the rules while considering the future course of the separations rules and framework. The Commission explained that consideration of a permanent freeze is particularly relevant in light of the referral on whether the separations rules still need to be reformed. The Commission observed that, if the Joint Board determines that comprehensive reform of the separations rules is no longer necessary and that these rules should be allowed to become obsolete due to technological transitions and regulatory reforms, then a permanent freeze appears to be prudent.

Third, if the Joint Board were to recommend a permanent separations freeze, the Commission asked the Joint Board to consider whether carriers should be given an opportunity to unfreeze their category relationships to enable carriers to update their cost data for categorizing investments and expenses. Relatedly, in asking the Joint Board to assess whether the Commission should allow carriers to unfreeze their category relationships, the Commission asked the Joint Board to consider whether this opportunity should be available only once or periodically, and whether or not these carriers should be permitted to refreeze their category relationships.

The Joint Board seeks comment on these issues and questions as it prepares to respond to the Commission's referrals and requests for recommended decisions in the 2024 Separations Freeze Extension and Referral Order.

Permit-but-disclose proceeding. The proceeding this Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Lynne Engledow,
Deputy Division Chief, Pricing Policy Division, Wireline Competition Bureau.

[FR Doc. 2025-03668 Filed 3-21-25; 8:45 am]

BILLING CODE 6712-01-P